EXPORT-IMPORT BANK

[Public Notice: EIB 2023-0009]

Application for Final Commitment for a Long-Term Loan or Financial Guarantee in Excess of $100 Million: AP733316XX

AGENCY: Export-Import Bank of the United States.

ACTION: Notice.

SUMMARY: This Notice is to inform the public the Export-Import Bank of the United States (“EXIM”) has received an application for final commitment for a long-term loan or financial guarantee in excess of $100 million. Comments received within the comment period specified below will be presented to the EXIM Board of Directors prior to final action on this Transaction.

DATES: Comments must be received on or before September 11, 2023 to be assured of consideration before final consideration of the transaction by the Board of Directors of EXIM.

ADDRESSES: Comments may be submitted through Regulations.gov at WWW.REGULATIONS.GOV. To submit a comment, enter EIB 2023-0009 under the heading “Enter Keyword or ID” and select Search. Follow the instructions provided at the Submit a Comment screen. Please include your name, company name (if any) and EIB 2023-0009 on any attached document.

SUPPLEMENTARY INFORMATION:

Reference: AP733316XX.

Purpose and Use:

Brief description of the purpose of the transaction: The maintenance and upgrade of 44 General Electric Frame 9E.03 gas turbines at 10 locations in Iraq.

Brief non-proprietary description of the anticipated use of the items being exported: Increase the availability and enhance the reliability of gas turbines under Iraq's Power Up Program 5B (“PUP 5B”).

Once completed, this project will help maintain an estimated 4.3 GW of power across the grid, sufficient to power approximately 1.4 million Iraqi homes.

Parties:

Principal Supplier: GE Gas Turbines (Greenville) LLC.

Obligor: Ministry of Finance of the Republic of Iraq.

Guarantor(s): None.

Description of Items Being Exported: Combustion system hardware, hot gas path components, and associated equipment and services for the maintenance and upgrade of gas turbines.

Information on Decision: Information on the final decision for this transaction will be available in the “Summary Minutes of Meetings of Board of Directors” on http://exim.gov/newsandevents/boardmeetings/board/.

Confidential Information: Please note that this notice does not include confidential or proprietary business information; information which, if disclosed, would violate the Trade Secrets Act; or information which would jeopardize jobs in the United States by supplying information that competitors could use to compete with companies in the United States.

Authority: Section 3(c)(10) of the Export-Import Bank Act of 1945, as amended (12 U.S.C. 635a(c)(10)).

Joyce B. Stone,
Assistant Corporate Secretary.

[FR Doc. 2023-17686 Filed 8-16-23; 8:45 am]

BILLING CODE 6690-01-P